NUCLEAR REGULATORY COMMISSION

10 CFR Part 50

[NRC-2011-0088]

RIN 3150-AI97

Incorporation by Reference of American Society of Mechanical Engineers Codes and Code Cases; Correction

AGENCY: Nuclear Regulatory Commission.

ACTION: Correcting amendment.

SUMMARY: The U.S. Nuclear Regulatory Commission (NRC) published a final rule in the Federal Register on July 18, 2017, to incorporate by reference recent editions of and addenda to the American Society of Mechanical Engineers (ASME) Codes for nuclear power plants. The final rule contained a minor error when referring to a table related to certification requirements for non-destructive examination personnel. In addition, the final rule contained a minor error in a requirement for check valve monitoring. This document corrects the final rule by revising the section that contains these errors.

DATES: This correction is effective January 18, 2018.

ADDRESSES: Please refer to Docket ID NRC-2011-0088 when contacting the NRC about the availability of information for this action. You may obtain publicly-available information related to this action by any of the following methods:

• Federal Rulemaking Website: Go to https://www.regulations.gov and search for Docket ID NRC-2011-0088. Address questions about NRC dockets to Carol Gallagher; telephone: 301-415-3463; email: Carol.Gallagher@nrc.gov. For questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. There are no NRC documents referenced in this document.

• NRC's PDR: You may examine and purchase copies of public documents at the NRC's PDR, Room O1-F21, One White Flint North, 11555 Rockville Pike, Rockville, Maryland 20852.

FOR FURTHER INFORMATION CONTACT: Cindy Bladey, Office of Nuclear Material Safety and Safeguards, U.S. Nuclear Regulatory Commission, Washington, DC 20555-0001; telephone: 301-415-3280; email: Cindy.Bladey@nrc.gov.

SUPPLEMENTARY INFORMATION: The NRC published a final rule in the Federal Register on July 18, 2017 (82 FR 32934), to incorporate by reference recent editions of and addenda to the ASME Codes for nuclear power plants in chapter I of title 10 of the Code of Federal Regulations (10 CFR). The final rule contained a minor error when referring to a table related to certification requirements for non-destructive examination personnel. The final rule inadvertently prohibited the use of the entire appendix containing the table instead of prohibiting only the table and subarticle as intended. The final rule also contained a minor error in the requirement for check valve monitoring in 10 CFR 50.55a(b)(3)(iv) by referencing an incorrect edition of the ASME Code for Operation and Maintenance of Nuclear Power Plants (OM Code). In particular, the final rule amended 10 CFR 50.55a(b)(3)(iv) to state that licensees applying Appendix II, 1998 Edition through the 2012 Edition of the ASME OM Code shall satisfy the requirements of paragraphs (b)(3)(iv)(A), (B), and (D). This requirement should have applied only to the 1998 Edition through the 2002 Addenda of the ASME OM Code, because the remaining portion of 10 CFR 50.55a(b)(3)(iv) addresses the check valve provisions effective after the 2002 Addenda of the ASME OM Code. This document corrects the final rule by revising the section that contains these errors.

Rulemaking Procedure

Under the Administrative Procedure Act (5 U.S.C. 553(b)), an agency may waive the normal notice and comment requirements if it finds, for good cause, that they are impracticable, unnecessary, or contrary to the public interest. As authorized by 5 U.S.C. 553(b)(3)(B), the NRC finds good cause to waive notice and opportunity for comment on this amendment because the corrections will have no substantive impact and are of a minor and administrative nature dealing with an error in a reference to a table in a document being incorporated by reference and an error when referring to a specific edition of the ASME OM Code.

As discussed in the statement of considerations on page 56826 of the proposed rule (80 FR 56820; September 18, 2015) and on page 32942 of the final rule (82 FR 32934; July 18, 2017), the NRC intended to prohibit the use of a table and subarticle with an accelerated training process for ultrasonic examination nondestructive examination personnel. The rule language inadvertently prohibited the use of the entire appendix, and this amendment corrects the error by prohibiting the use of the table and subarticle only.

As discussed in the statement of considerations on page 56832 of the proposed rule (80 FR 56820; September 18, 2015) and on page 32950 of the final rule (82 FR 32934; July 18, 2017), the NRC intended that a specific requirement for check valve monitoring in 10 CFR 50.55a(b)(3)(iv) apply only to the 1998 Edition through the 2002 Addenda of the ASME OM Code. The final rule inadvertently referenced the 2012 Edition of the ASME OM Code in this requirement rather than the 2002 Addenda. This amendment corrects the error by replacing “2012 Edition” with “2002 Addenda” in the second sentence of the introductory text of 10 CFR 50.55a(b)(3)(iv).

This amendment does not require action by any person or entity regulated by the NRC. Also, the final rule does not change the substantive responsibilities of any person or entity regulated by the NRC. Furthermore, for the reasons stated above, the NRC finds, pursuant to 5 U.S.C. 553(d)(3), that good cause exists to make this rule effective upon publication of this notice.

List of Subjects in 10 CFR Part 50

Administrative practice and procedure, Antitrust, Classified information, Criminal penalties, Education, Fire prevention, Fire protection, Incorporation by reference, Intergovernmental relations, Nuclear power plants and reactors, Penalties, Radiation protection, Reactor siting criteria, Reporting and recordkeeping requirements, Whistleblowing.

For the reasons set out in the preamble and under the authority of the Atomic Energy Act of 1954, as amended; the Energy Reorganization Act of 1974, as amended; and 5 U.S.C. 552 and 553, the NRC is adopting the following amendments to 10 CFR part 50:

PART 50—DOMESTIC LICENSING OF PRODUCTION AND UTILIZATION FACILITIES

1. The authority citation for part 50 continues to read as follows:

Authority: Atomic Energy Act of 1954, secs. 11, 101, 102, 103, 104, 105, 108, 122, 147, 149, 161, 181, 182, 183, 184, 185, 186, 187, 189, 223, 234 (42 U.S.C. 2014, 2131, 2132, 2133, 2134, 2135, 2138, 2152, 2167, 2169, 2201, 2231, 2232, 2233, 2234, 2235, 2236, 2237, 2239, 2273, 2282); Energy Reorganization Act of 1974, secs. 201, 202, 206, 211 (42 U.S.C. 5841, 5842, 5846, 5851); Nuclear Waste Policy Act of 1982, sec. 306 (42 U.S.C. 10226); National Environmental Policy Act of 1969 (42 U.S.C. 4332); 44 U.S.C. 3504 note; Sec. 109, Pub. L. 96-295, 94 Stat. 783.

2. Amend § 50.55a by revising paragraph (b)(2)(xviii)(D) and the introductory text of paragraph (b)(3)(iv) to read as follows:

§ 50.55a Codes and standards.

* * * * *

(b) * * *

(2) * * *

(xviii) * * *

(D) NDE personnel certification: Fourth provision. The use of Appendix VII, Table VII-4110-1 and Appendix VIII, Subarticle VIII-2200 of the 2011 Addenda and 2013 Edition of Section XI of the ASME BPV Code is prohibited. When using ASME BPV Code, Section XI editions and addenda later than the 2010 Edition, licensees and applicants must use the prerequisites for ultrasonic examination personnel certifications in Appendix VII, Table VII-4110-1 and Appendix VIII, Subarticle VIII-2200 in the 2010 Edition.

* * * * *

(3) * * *

(iv) OM condition: Check valves (Appendix II). Licensees applying Appendix II, “Check Valve Condition Monitoring Program,” of the ASME OM Code, 1995 Edition with the 1996 and 1997 Addenda, shall satisfy the requirements of paragraphs (b)(3)(iv)(A) through (C) of this section. Licensees applying Appendix II, 1998 Edition through the 2002 Addenda, shall satisfy the requirements of paragraphs (b)(3)(iv)(A), (B), and (D) of this section. Appendix II of the ASME OM Code, 2003 Addenda through the 2012 Edition, is acceptable for use with the following requirements. Trending and evaluation shall support the determination that the valve or group of valves is capable of performing its intended function(s) over the entire interval. At least one of the Appendix II condition monitoring activities for a valve group shall be performed on each valve of the group at approximate equal intervals not to exceed the maximum interval shown in the following table:

Table II—Maximum Intervals for Use When Applying Interval Extensions
Group size | Maximum interval between activities of member valves in the groups (years) | Maximum interval between activities of each valve in the group (years)
≥4 | 4.5 | 16
3 | 4.5 | 12
2 | 6 | 12
1 | Not applicable | 10

* * * * *

Dated at Rockville, Maryland, this 10th day of January, 2018.
For the Nuclear Regulatory Commission.
Cindy Bladey,
Chief, Regulatory Analysis and Rulemaking Support Branch, Division of Rulemaking, Office of Nuclear Material Safety and Safeguards.

[FR Doc. 2018-00708 Filed 1-17-18; 8:45 am]

BILLING CODE 7590-01-P